Title 3—

The President

Proclamation 7502 of November 14, 2001

To Provide for the Termination of Action Taken With Regard to Imports of Lamb Meat

By the President of the United States of America

A Proclamation

1. Proclamation 7208 issued July 7, 1999, implemented action of a type described in section 203(a)(3) of the Trade Act of 1974, as amended (19 U.S.C. 2253(a)(3)) (the “Trade Act”), with respect to imports of fresh, chilled, or frozen lamb meat, provided for in subheadings 0204.10.00, 0204.22.20, 0204.23.20, 0204.30.00, 0204.42.20, and 0204.43.20 of the Harmonized Tariff Schedule of the United States (HTS). Proclamation 7208 took effect on July 22, 1999.

2. Section 204(a)(1) of the Trade Act (19 U.S.C. 2254(a)(1)) requires the United States International Trade Commission (USITC) to monitor developments with respect to the domestic industry while action taken under section 203 remains in effect. If the initial period of such action exceeds 3 years, then the Commission must submit to the President a report on the results of such monitoring not later than the date that is the mid-point of the initial period of the action. The USITC report in Investigation Number TA-204-2, issued on January 22, 2001, has been submitted.

3. Section 204(b)(1)(A) of the Trade Act (19 U.S.C. 2254(b)(1)(A)) authorizes the President to reduce, modify, or terminate a safeguard action if, after taking into account any report or advice submitted by the USITC and after seeking the advice of the Secretary of Commerce and the Secretary of Labor, the President determines that changed circumstances warrant such reduction, modification, or termination. The President's determination may be made, inter alia, on the basis that the effectiveness of the action taken under section 203 has been impaired by changed economic circumstances.

4. In view of the information provided in the USITC's report, and having sought advice from the Secretary of Commerce and the Secretary of Labor, I determine that the effectiveness of the action taken under section 203 with respect to lamb imports has been impaired by changed economic circumstances. Accordingly, I have determined, pursuant to section 204(b)(1)(A) of the Trade Act, that termination of the action taken under section 203 with respect to lamb meat imports is warranted.

5. Section 604 of the Trade Act (19 U.S.C. 2483) authorizes the President to embody in the HTS the substance of the relevant provisions of that Act, and of other acts affecting import treatment, and actions thereunder, including the removal, modification, continuance, or imposition of any rate of duty or other import restriction.

NOW, THEREFORE, I, GEORGE W. BUSH, President of the United States of America, acting under the authority vested in me by the Constitution and the laws of the United States of America, including but not limited to sections 204 and 604 of the Trade Act, do proclaim that:

(1) The HTS is modified as provided in the Annex to this proclamation.

(2) Any provisions of previous proclamations and Executive Orders that are inconsistent with the actions taken in this proclamation are superseded to the extent of such inconsistency.

(3) The modifications to the HTS made by this proclamation shall be effective with respect to goods entered, or withdrawn from warehouse for consumption, after the close of November 14, 2001.

IN WITNESS WHEREOF, I have hereunto set my hand this fourteenth day of November, in the year of our Lord two thousand one, and of the Independence of the United States of America the two hundred and twenty-sixth.

B

Billing code 3190-01-P

Annex

Modifications to the Harmonized Tariff Schedule of the United States

Effective with respect to goods entered, or withdrawn from warehouse for consumption, after the close of November 14, 2001, subchapter III of chapter 99 of the Harmonized Tariff Schedule of the United States is hereby modified by striking U.S. note 8, subheading 9903.02.01 through 9903.02.06, and the superior text thereto.

[FR Doc. 01-28993

Filed 11-16-01; 8:45 am]

Billing code 3190-01-M